DEPARTMENT OF HEALTH AND HUMAN SERVICES

Centers for Disease Control and Prevention

[60Day-24-1046; Docket No. CDC-2024-0074]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled National Breast and Cervical Cancer Early Detection Program (NBCCEDP) Monitoring Activities. This data collection is designed to systematically collect information about implementation, including delivery of screening and follow-up clinical services, and outcomes of the National Breast and Cervical Cancer Early Detection Program (NBCCEDP).

DATES: CDC must receive written comments on or before December 2, 2024.

ADDRESSES: You may submit comments, identified by Docket No. CDC-2024-0074 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

National Breast and Cervical Cancer Early Detection Program (NBCCEDP) Monitoring Activities (OMB Control No. 0920-1046, Exp. 03/31/2025)—Revision—National Center for Chronic Disease Prevention and Health Promotion (NCCDPHP), Centers for Disease Control and Prevention (CDC).

Background and Brief Description

CDC is requesting a Revision of the information collection titled National Breast and Cervical Cancer Early Detection Program (NBCCEDP) Monitoring Activities (OMB Control No. 0920-1046). The information collection consists of an annual NBCCEDP survey, baseline and annual clinic-level data collection, a quarterly program update (QPU) tool, a service delivery projection worksheet, and minimum data elements (MDEs). CDC proposes revisions to the Annual NBCCEDP Survey, clinic-level data collection tool and QPU, and continued use of the service delivery projection worksheet and MDEs with no changes. The number of respondents will increase from 70 to 71 and the total estimated annualized burden will decrease from 1,220 hours to 1,162 hours.

Breast and cervical cancers are prevalent among U.S. women. In 2021, the U.S. experienced 272,454 new cases and 42,211 deaths as a result of breast cancer, as well as 12,536 new cases and 4,051 deaths as a result of cervical cancer. Evidence shows that deaths from both breast and cervical cancers can be avoided by increasing screening services—mammography, pap, and human papillomavirus (HPV) tests—among women. However, in 2021, approximately one quarter of adults were not up to date with breast and/or cervical cancer screening, and screening was underutilized among women who are under- or uninsured, have no regular source of healthcare, or who recently immigrated to the U.S. As a longstanding priority within chronic disease prevention, CDC focuses on increasing access to these cancer screenings, particularly among women who may be at increased risk.

To improve access to cancer screening, Congress passed the Breast and Cervical Cancer Mortality Prevention Act of 1990 (Pub. L. 106-354), which directed CDC to create the National Breast and Cervical Cancer Early Detection Program (NBCCEDP). The NBCCEDP currently provides funding to 71 recipients under “Cancer Prevention and Control Programs for State, Territorial, and Tribal Organizations (DP22-2202).” NBCCEDP awardees include states or their bona fide agents; U.S. territories; and tribes or tribal organizations. The purpose of NBCCEDP is to increase breast and cervical cancer screening rates among women residing within defined geographical locations (as determined by the funded program) who are at or below 250% of the federal poverty level; aged 50-75 years for breast cancer services, and aged 21-64 years for cervical cancer services; and under- or uninsured.

CDC proposes revisions to three of the previously approved information collection instruments:

Annual NBCCEDP Survey—This instrument collects program-level information annually to monitor recipients' challenges, external funding sources, partnerships, and EBI implementation. The survey has been revised to include new survey questions to improve data quality for items related to partnership activities and recipients' requirements for patients' payments towards screening services, as well as the removal of a COVID-19 related question.

Clinic-Level Data Collection Tool—This instrument collects clinic-level data at baseline and annually to assess health system, clinic, and patient population characteristics; monitoring and quality improvement activities; EBI implementation; and baseline or annual screening rates. This tool has been revised to remove COVID-19 related variables and update response options for the measures used to report breast and cervical cancer screening rates.

QPU—This instrument collects program-level data four times per year to monitor award spending, service delivery, staff vacancies, program challenges and successes, and TA needs. This instrument has been revised to include two optional open-ended items to allow recipients to provide context to reported service delivery and spending data only if needed.

CDC proposes continued use of the remaining two information collections; Service Delivery Project Worksheet and the MDEs, which have not been changed. To maximize consistency in our routine data collections for the current NBCCEDP funding cycle, CDC has not revised NBCCEDP information collections to align with the Department of Health and Human Services (HHS)' current best practices for demographic questions related to sexual orientation and gender identity (SOGI) and race and ethnicity (R/E) at this time. However, CDC plans to revise information collections that include demographic items to align with HHS' SOGI and R/E guidelines for the next funding cycle beginning in 2027.

The proposed information collections will allow CDC to better gauge progress in meeting NBCCEDP program goals and monitor implementation activities, evaluate outcomes, and identify awardee technical assistance needs. In addition, findings will inform program improvement and help identify successful activities that need to be maintained, replicated, or expanded.

OMB approval is requested for three years. CDC requests OMB approval for an estimated 1,162 annual burden hours. Participation is required for NBCCEDP awardees. There are no costs to respondents other than their time.

Estimated Annualized Burden Hours
Type of respondents | Form name | Number of respondents | Number of responses per respondent | Average burden per response (in hours) | Total burden (in hours)
NBCCEDP Awardees | Annual NBCCEDP Survey | 71 | 1 | 46/60 | 54
| NBCCEDP Clinic-level Information Collection Instrument—Breast | 71 | 6 | 40/60 | 284
| NBCCEDP Clinic-level Information Collection Instrument—Cervical | 71 | 6 | 40/60 | 284
| Quarterly Program Update | 71 | 4 | 22/60 | 151
| Service Delivery Projection Worksheet | 71 | 1 | 29/60 | 34
| MDEs | 71 | 2 | 150/60 | 355
Total |  |  |  |  | 1,162

Jeffrey M. Zirger,
Lead, Information Collection Review Office, Office of Public Health Ethics and Regulations, Office of Science, Centers for Disease Control and Prevention.

[FR Doc. 2024-22477 Filed 9-30-24; 8:45 am]

BILLING CODE 4163-18-P